DEPARTMENT OF THE INTERIOR

National Park Service

[NPS-WASO-NAGPRA-NPS0034801; PPWOCRADN0-PCU00RP14.R50000]

Notice of Inventory Completion: U.S. Department of the Interior, National Park Service, Colonial National Historical Park, Yorktown, VA

AGENCY: National Park Service, Interior.

ACTION: Notice.

SUMMARY: The U.S. Department of the Interior, National Park Service, Colonial National Historical Park has completed an inventory of human remains, in consultation with the appropriate Indian Tribes or Native Hawaiian organizations and has determined that there is a cultural affiliation between the human remains and present-day Indian Tribes or Native Hawaiian organizations. Lineal descendants or representatives of any Indian Tribe or Native Hawaiian organization not identified in this notice that wish to request transfer of control of these human remains should submit a written request to Colonial National Historical Park. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to Colonial National Historical Park at the address in this notice by December 7, 2022.

FOR FURTHER INFORMATION CONTACT: Jerri Marr, Superintendent, Colonial National Historical Park, P.O. Box 210, Yorktown, VA 23690, telephone (757) 898-2400, email jerri_marr@nps.gov.

SUPPLEMENTARY INFORMATION: Notice is here given in accordance with the Native American Graves Protection and Repatriation Act (NAGPRA), 25 U.S.C. 3003, of the completion of an inventory of human remains under the control of the U.S. Department of the Interior, National Park Service, Colonial National Historical Park, Yorktown, VA. The human remains were removed from unknown locations in Central Virginia.

This notice is published as part of the National Park Service's administrative responsibilities under NAGPRA, 25 U.S.C. 3003(d)(3). The determinations in this notice are the sole responsibility of the Superintendent, Colonial National Historical Park.

Consultation

A detailed assessment of the human remains was made by Colonial National Historical Park professional staff in consultation with representatives of the Monacan Indian Nation.

History and Description of the Remains

At unknown dates, human remains representing, at minimum, three individuals were removed from unknown sites in Central Virginia by Colonel Wirt Robinson. In the late 19th and early 20th centuries, Colonel Robinson collected human remains and artifacts from multiple Virginia counties, including Amherst, Appomattox, Buckingham, Campbell, and Nelson. In 1940, the collection was purchased from Colonel Robinson's widow by the National Park Service and placed with Colonial National Historical Park's Jamestown museum collection. During the study, evaluation, and cataloging of the collection by the University of Virginia, several human remains were discovered. No known individuals were identified. No associated funerary objects are present.

In 2000, the Wirt Robinson Collection was loaned to the Monacan Indian Nation and analyzed by Dr. Jeffrey Hantman of the University of Virginia. Dr. Hantman, an authority on Monacan history and material culture, wrote that “There can be no more appropriate place for this collection than with the Monacan Indian Nation.” In 2002, osteologist Debra Gold of St. Cloud State University concluded that the 14 human bones and one human tooth represented two adults and one juvenile. In 2008, the artifacts, none of which were determined to be associated funerary objects, were deaccessioned and transferred to the Monacan Indian Nation.

All of the Virginia counties from which the human remains and artifacts were removed have been identified as Monacan ancestral territory.

Determinations Made by the U.S. Department of the Interior, National Park Service, Colonial National Historical Park

Officials of the U.S. Department of the Interior, National Park Service, Colonial National Historical Park have determined that:

• Pursuant to 25 U.S.C. 3001(9), the human remains described in this notice represent the physical remains of three individuals of Native American ancestry.

• Pursuant to 25 U.S.C. 3001(2), there is a relationship of shared group identity that can be reasonably traced between the Native American human remains and the Monacan Indian Nation.

Additional Requestors and Disposition

Lineal descendants or representatives of any Indian Tribe or Native Hawaiian organization not identified in this notice that wish to request transfer of control of these human remains should submit a written request with information in support of the request to Jerri Marr, Superintendent, Colonial National Historical Park, P.O. Box 210, Yorktown, VA 23690, telephone (757) 898-2400, email jerri_marr@nps.gov, by December 7, 2022. After that date, if no additional requestors have come forward, transfer of control of the human remains to the Monacan Indian Nation may proceed.

The U.S. Department of the Interior, National Park Service, Colonial National Historical Park is responsible for notifying the Monacan Indian Nation that this notice has been published.

Dated: October 26, 2022.
Melanie O'Brien,
Manager, National NAGPRA Program.

[FR Doc. 2022-24220 Filed 11-4-22; 8:45 am]

BILLING CODE 4312-52-P